DEPARTMENT OF COMMERCE

Census Bureau

Proposed Information Collection; Comment Request; Quarterly Survey of Public Pensions

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before October 25, 2011.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument(s) and instructions should be directed to Erika Becker-Medina, Chief, Employment and Benefit Statistics Branch, Governments Division, U.S. Census Bureau, Headquarters: 6K141, Washington, DC 20233; telephone: 301-763-1494; facsimile: 301-763-6833; e-mail: erika.h.becker.medina@census.gov.

SUPPLEMENTARY INFORMATION:

I. Abstract

The Census Bureau plans to request an extension for the Quarterly Survey of Public Pensions (formerly known as the Finances of Selected Public Employee Retirement Systems). The quarterly survey was initiated by the Census Bureau in 1968 at the request of both the Council of Economic Advisers and the Federal Reserve Board.

The Quarterly Survey of Public Pensions provides national summary data on the revenues, expenditures, and composition of assets of the largest pension systems of state and local governments. These data are used by the Federal Reserve Board to track the public sector portion of the Flow of Funds Accounts. The Bureau of Economic Analysis uses these data as part of the government sector projections in the Gross Domestic Product. Economists and public policy analysts use the data to assess general economic conditions and state and local government financial activities.

Data are collected from a panel of defined benefit plans of the 100 largest state and local government pension systems as determined by their total cash and security holdings reported in the 2007 Census of Governments. The defined benefit plans of these 100 largest pension systems comprise 89.4 percent of financial activity among such entities, based on the 2007 Census of Governments.

After a census of governments has been taken, it is considered best practice to reselect the 100 largest state and local government pension systems. Starting with the first quarter of 2014, data will reflect the new universe of the 100 largest pension systems, based on the 2012 Census of Governments. A bridge study will be published if there is any change to the universe.

II. Method of Collection

Survey data will be collected via mail-out/mail-back questionnaire which is also available on the Internet. Respondents may choose to mail, fax, or report their data online. Most respondents choose to report their data online. Only six percent of respondents report data via mail or fax. In addition to reporting current quarter data, respondents may report data for the previous two quarters or submit revisions to their previously submitted data.

Usable replies are received each quarter from 85 to 95 percent of the systems canvassed. Imputations are developed for each of the remaining systems in the panel from the latest available data.

III. Data

OMB Control Number: 0607-0143.

Form Number: F-10.

Type of Review: Regular submission.

Affected Public: State and locally-administered public pension plans.

Estimated Number of Respondents: 100.

Estimated Time per Response: 45 minutes.

Estimated Total Annual Burden Hours: 300.

Estimated Total Annual Cost: $6,600.

Respondent's Obligation: Voluntary.

Legal Authority: Title 13 U.S.C. Section 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 23, 2011.
Glenna Mickelson,
Management Analyst, Office of the Chief Information Officer.

[FR Doc. 2011-21875 Filed 8-25-11; 8:45 am]

BILLING CODE 3510-07-P